ENVIRONMENTAL PROTECTION AGENCY

[FRL-9648-4]

Notice of Proposed Prospective Purchaser Agreement Amendment Pursuant to the Comprehensive Environmental Response, Compensation and Liability Act of 1980, as Amended by the Superfund Amendments and Reauthorization Act of 1986

AGENCY: Environmental Protection Agency (EPA).

ACTION: Notice. Request for public comment.

SUMMARY: Notice is hereby given that a proposed prospective purchaser agreement amendment (“PPA Amendment”) associated with the GE-Pittsfield/Housatonic River Site, in Pittsfield, Massachusetts, was executed by the Environmental Protection Agency (“EPA”) and the Department of Justice and is now subject to public comment, after which the United States may modify or withdraw its consent to the PPA Amendment if comments received disclose facts or considerations indicating that the PPA Amendment is inappropriate, improper, or inadequate. The PPA Amendment would resolve certain potential EPA claims under Sections 106 and 107 of CERCLA, 42 U.S.C. 9606 and 9607, and other statutes, against the Pittsfield Economic Development Authority (“PEDA”). In lieu of financial consideration, in exchange for EPA's covenant not to sue, the PPA Amendment would require PEDA to acquire certain parcels along the banks of Silver Lake in Pittsfield, impose institutional controls on such parcels, and refrain from damaging certain natural resources plantings on the Silver Lake bank parcels.

For thirty (30) days following the date of publication of this notice, the Agency will receive written comments relating to the PPA Amendment. The Agency's response to any comments received will be available for public inspection at the U.S. Environmental Protection Agency, Region I Office, 5 Post Office Square, Boston, MA 02109.

DATES: Comments must be submitted on or before April 16, 2012.

ADDRESSES: Submit your comments, identified by Docket ID No. EPA-R01-CERCLA 01-2002-0007, by one of the following methods:

• Email: John W. Kilborn, Senior Enforcement Counsel at Kilborn.john@epa.gov.

• Mail: John W. Kilborn, Senior Enforcement Counsel, U.S. Environmental Protection Agency, Region I, 5 Post Office Square (Mail Code OES4-3), Boston, MA 02109.

• Hand Delivery: John W. Kilborn, Senior Enforcement Counsel, U.S. Environmental Protection Agency, Region I, 5 Post Office Square (Mail Code OES4-3), Boston, MA 02109. Business Hours: Monday through Friday 9 a.m. to 4 p.m. Such deliveries are accepted only during business hours of operation, and special arrangements should be made for deliveries of boxed information.

Instructions: Direct your comments to Docket ID No. EPA-R01-CERCLA 01-2002-0007. EPA's policy is that all comments received will be included in the public docket without change, including any personal information provided, unless the comment includes information claimed to be Confidential Business Information (CBI) or other information whose disclosure is restricted by statute. Do not submit information that you consider to be CBI or otherwise protected through email. If you send an email comment directly to EPA, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: The PPA Amendment and additional background information are available for public inspection at the U.S. Environmental Protection Agency, Region I Office, 5 Post Office Square, Boston, MA 02109. A copy of the PPA Amendment may be obtained from Ann Gardner, U.S. Environmental Protection Agency, Region I Office, 5 Post Office Square, Boston, MA 02109 (617-918-1895) or by email at Gardner.ann@epa.gov. The PPA Amendment is also posted on EPA's GE-Pittsfield Web site at: http://www.epa.gov/region1/ge/publiccomment.html.

FOR FURTHER INFORMATION CONTACT: John W. Kilborn, Senior Enforcement Counsel, U.S. Environmental Protection Agency, Region I, 5 Post Office Square—Suite 100, Mail Code (OES4-3), Boston, MA 02109-3912. Phone: (617) 918-1893.

SUPPLEMENTARY INFORMATION: This notice is given in accordance with the Comprehensive Environmental Response, Compensation and Liability Act of 1980 as amended by the Superfund Amendments and Reauthorization Act of 1986, (“CERCLA”), 42 U.S.C. 9601-9675.

Dated: March 1, 2012.
James T. Owens III,
Director, Office of Site Remediation and Restoration, Region I.

[FR Doc. 2012-6425 Filed 3-15-12; 8:45 am]

BILLING CODE 6560-50-P